DEPARTMENT OF THE TREASURY

United States Mint

Price for the 2013 5-Star Generals Profile Collection

AGENCY: United States Mint, Department of the Treasury.

ACTION: Notice.

SUMMARY: The United States Mint is announcing a price of $74.95 for the 2013 5-Star Generals Profile Collection.

FOR FURTHER INFORMATION CONTACT: Marc Landry, Acting Associate Director for Sales and Marketing; United States Mint; 801 9th Street NW., Washington, DC 20220; or call 202-354-7500.

Authority: 31 U.S.C. 5111, 5112 & 9701; Pub. L. 111-262, section 6(a).

Dated: June 26, 2013.
Beverly Ortega Babers,
Chief Administrative Officer, United States Mint.

[FR Doc. 2013-15833 Filed 7-1-13; 8:45 am]

BILLING CODE P